DEPARTMENT OF DEFENSE

Department of the Navy

32 CFR Part 706

Certifications and Exemptions Under the International Regulations for Preventing Collisions at Sea, 1972

AGENCY: Department of the Navy, DOD.

ACTION: Final rule.

SUMMARY: The Department of the Navy is amending its certifications and exemptions under the International Regulations for Preventing Collisions at Sea, 1972 (72 COLREGS), to reflect that the Deputy Assistant Judge Advocate General of the Navy (Admiralty and Maritime Law) has determined that Causeway Ferry Power Modules (CFPM) and Warping Tugs (WT) are vessels of the Navy which, due to their special construction and purpose, cannot fully comply with certain provisions of the 72 COLREGS without interfering with their special function as naval ships. The intended effect of this rule is to warn mariners in waters where 72 COLREGS apply.

DATES: Effective Date: September 9, 2005.

FOR FURTHER INFORMATION CONTACT: Commander Gregg A. Cervi, JAGC, U.S. Navy, Deputy Assistant Judge Advocate General (Admiralty and Maritime Law), Office of the Judge Advocate General, 1322 Patterson Avenue, Suite 3000, Washington Navy Yard, DC 20374-5066, telephone 202-685-5040.

SUPPLEMENTARY INFORMATION: Pursuant to the authority granted in 33 U.S.C. 1605, the Department of the Navy amends 32 CFR part 706. This amendment provides notice that the Deputy Assistant Judge Advocate General of the Navy (Admiralty and Maritime Law), under authority delegated by the Secretary of the Navy, has certified that Causeway Ferry Power Modules (CFPM) and Warping Tugs (WT) are vessels of the Navy which, due to their special construction and purpose, cannot fully comply with the following specific provisions of the 72 COLREGS without interfering with their special function as naval ships: Rule 21(a), pertaining to the placement of masthead lights over the fore and aft centerline of the vessel; Rule 23(a)(i) and Annex I paragraph 3(c), pertaining to placement of the masthead light in the forward part of the ship; Annex I, paragraph 3(b), pertaining to the placement of sidelights aft of the masthead light and at or near the side of the vessel; and Annex I, paragraph 2(i)(i), pertaining to placement of task lights in a vertical line not less than 2 meters apart. The Deputy Assistant Judge Advocate General of the Navy (Admiralty and Maritime Law) has also certified that the lights involved are located in closest possible compliance with the applicable 72 COLREGS requirements.

Moreover, it has been determined, in accordance with 32 CFR parts 296 and 701, that publication of this amendment for public comment prior to adoption is impracticable, unnecessary, and contrary to public interest since it is based on technical findings that the placement of lights on these vessels in a manner differently from that prescribed herein will adversely affect the vessels' ability to perform their military functions.

List of Subjects in 32 CFR Part 706

Marine safety, Navigation (water), and Vessels.

For the reasons set forth in the preamble, amend part 706 of title 32 of the Code of Federal Regulations as follows:

PART 706—CERTIFICATIONS AND EXEMPTIONS UNDER THE INTERNATIONAL REGULATIONS FOR PREVENTING COLLISIONS AT SEA, 1972

1. The authority citation for 32 CFR part 706 continues to read as follows:

Authority: 33 U.S.C. 1605.

2. Table Two of § 706.2 is amended by adding, in numerical order, the following entries for CFPM (class) and WT (class):

§ 706.2 Certifications of the Secretary of the Navy under Executive Order 11964 and 33 U.S.C. 1605.

* * * * *

Table Two
Vessel | Number | Masthead lights, distance to stbd of keel in meters; Rule 21(a) | Forward anchor light, distance below flight deck in meters; § 2(K), Annex I | Forward anchor light, number of; Rule 30(a)(i) | AFT anchor light, distance below flight deck in meters; Rule 21(e), Rule 30(a)(ii) | AFT anchor light, number of; rule 30(a)(ii) | Side lights, distance below flight deck in meters; § 2(g), Annex I | Side lights, distance forward of forward masthead light in meters; § 3(b), Annex I | Side lights, distance inboard of ship's sides in meters; § 3(b), Annex I
CFPM (class) | CFPM-1 through CFPM-2 | 2.32 |  |  |  |  |  | 2.01 | ⁵ 5.73
* * * * * * *
WT (class) | WT-1 through WT-4 | 2.32 |  |  |  |  |  | 2.01 | ⁵ 5.73
⁵ Port sidelight only.

3. Table Four of § 706.2 is amended by revising paragraph 5 and adding paragraph 21 to read as follows:

§ 706.2 Certifications of the Secretary of the Navy under Executive Order 11964 and 33 U.S.C. 1605.

* * * * *

Table Four

* * * * *

5. The masthead light required by Rule 23(a)(i) and Annex I, Paragraph 3(d), is not located in the forward part of the vessel on the CFPM Class, CSP Class, SLWT Class, and WT Class.

* * * * *

21. On the following ships, the forward towing light array and Restricted Maneuvering light array do not meet the vertical spacing requirements described by Annex I, paragraph 2(i)(i).

Vessel | Forward towing light array, vertical spacing (meters) | Restricted maneuvering light array, vertical spacing (meters)
CFPM-1 through CFPM-2 | 1.00 | 1.00
WT-1 through WT-4 | 1.00 | 1.00

* * * * *

Approved: September 9, 2005.
Gregg A. Cervi,
Commander, JAGC, U.S. Navy, Deputy Assistant Judge Advocate General (Admiralty and Maritime Law).

[FR Doc. 06-1807 Filed 2-27-06; 8:45 am]

BILLING CODE 3810-FF-P